FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 002364F.

Name: Reiko Soejima Gibbs and James Thomas Gibbs dba Excel International Forwarders.

Address: 800 E. Wardlow Road, Long Beach, CA 90807.

Date Revoked: July 17, 2011.

Reason: Failed to maintain a valid bond.

License Number: 2906F.

Name: Bill Fitch International, Inc.

Address: 21 Piney Point Road, Savannah, GA 31410.

Date Revoked: July 5, 2011.

Reason: Voluntarily surrendered license.

License Number: 003095F.

Name: Flamingo International, Inc.

Address: 7185 NW. 87th Avenue, Miami, FL 33178.

Date Revoked: July 1, 2011.

Reason: Failed to maintain a valid bond.

License Number: 004084N.

Name: Glory Express, Inc.

Address: 21900 S. Alameda Street, Long Beach, CA 90810.

Date Revoked: July 20, 2011.

Reason: Failed to maintain a valid bond.

License Number: 004140NF.

Name: Pacific Wells Corp. dba Pelican Shipping Line.

Address: 615 East Alondra Boulevard, Compton, CA 90220.

Date Revoked: July 20, 2011.

Reason: Failed to maintain valid bonds.

License Number: 004546F.

Name: Foreign Freight Systems Corp.

Address: 10250 NW. 89th Avenue, Bay 10, Medley, FL 33178.

Date Revoked: July 19, 2011.

Reason: Voluntarily surrendered license.

License Number: 004609N.

Name: Export Container Lines, Inc.

Address: 283 6th Street, Avalon, NJ 08202.

Date Revoked: July 25, 2011.

Reason: Failed to maintain a valid bond.

License Number: 8338N.

Name: Transway Freight Systems, Inc. dba Powertrans Freight Systems.

Address: 145-30 156th Street, Jamaica, NY 11434.

Date Revoked: July 27, 2011.

Reason: Failed to maintain a valid bond.

License Number: 016190N.

Name: Neptune International Group, Inc. dba Yunhoo Company.

Address: 398 South Lemon Creek Drive, Suite R, Walnut, CA 91789.

Date Revoked: July 8, 2011.

Reason: Failed to maintain a valid bond.

License Number: 016376F.

Name: Combined Forwarding, Inc.

Address: 14700 Highland Springs Court, Davie, FL 33323.

Date Revoked: July 20, 2011.

Reason: Voluntarily surrendered license.

License Number: 017937N.

Name: L.C. Logistics, Inc.

Address: 2075 S. Atlantic Boulevard, Suite H, Monterey Park, CA 91754.

Date Revoked: July 20, 2011.

Reason: Failed to maintain a valid bond.

License Number: 018111NF.

Name: Dragon America Logistics, Inc.

Address: 3133 NW Chapin Drive, Portland, OR 97229

Date Revoked: July 29, 2011.

Reason: Failed to maintain valid bonds.

License Number: 018317N.

Name: Bahaghari LLC dba Bahaghari LLC dba DL Lawin Cargo dba Bahaghari Express Cargo.

Address: 761 Highland Place, San Dimas, CA 91773.

Date Revoked: June 20, 2011.

Reason: Voluntarily surrendered license.

License Number: 018392N.

Name: Broom U.S.A., Inc. dba B.G. Logistics.

Address: 7836 NW. 46th Street, Doral, FL 33166.

Date Revoked: July 15, 2011.

Reason: Failed to maintain a valid bond.

License Number: 018854NF.

Name: United Logistics, Inc.

Address: 369 Van Ness Way, Suite 710, Torrance, CA 90501.

Date Revoked: July 31, 2011.

Reason: Failed to maintain valid bonds.

License Number: 019261N.

Name: N.C. Shipping, Inc.

Address: 7771 Garvey Avenue, Suite D, Rosemead, CA 91770.

Date Revoked: July 1, 2011.

Reason: Failed to maintain a valid bond.

License Number: 019271F.

Name: Xima Freight Services, Inc.

Address: 1525 NW. 82nd Avenue, Miami, FL 33126.

Date Revoked: July 3, 2011.

Reason: Failed to maintain a valid bond.

License Number: 019630N.

Name: Pioneer Shipping Logistics Inc.

Address: 99-32 66th Road, Suite 7X, Rego Park, NY 11374.

Date Revoked: June 25, 2011.

Reason: Voluntarily surrendered license.

License Number: 019790N.

Name: K. C. Consulting, Inc.

Address: 36565 Nathan Hale Drive, Lake Villa, IL 60046.

Date Revoked: October 13, 2010.

Reason: Failed to maintain a valid bond.

License Number: 020218N.

Name: Fortune Logistics (USA) Inc.

Address: 3309 Brookridge Road, Duarte, CA 91010.

Date Revoked: July 28, 2011.

Reason: Failed to maintain a valid bond.

License Number: 020385F.

Name: Worldpack, LLC.

Address: 200 First Avenue West, Suite 400, Seattle, WA 98119.

Date Revoked: July 12, 2011.

Reason: Failed to maintain a valid bond.

License Number: 020530N.

Name: La Solucion Cargo Express Corp.

Address: 3900 SW. 52nd Avenue, Suite 401, Hollywood, FL 33023.

Date Revoked: July 9, 2011.

Reason: Failed to maintain a valid bond.

License Number: 020696N.

Name: ACS Logistics, Inc.

Address: 5005 W. Royal Lane, Suite 198, Irving, TX 75063.

Date Revoked: July 11, 2011.

Reason: Voluntarily surrendered license.

License Number: 020700F.

Name: Allen & Sally Associates, LLC dba USA Customs Brokers & Freight Forwarders.

Address: 7094 Peachtree Industrial Boulevard, Suite 270-1, Norcross, GA 30071.

Date Revoked: July 3, 2011.

Reason: Failed to maintain a valid bond.

License Number: 020732N.

Name: PNBRCI Holding Co., Ltd. dba PNB Cargo Services.

Address: 3345 Wilshire Boulevard, Suite 230, Los Angeles, CA 90010.

Date Revoked: July 20, 2011.

Reason: Failed to maintain a valid bond.

License Number: 020761N.

Name: Royaline Shipping, Inc.

Address: 646 Fairview Avenue, Suite 20, Arcadia, CA 91007.

Date Revoked: December 4, 2009.

Reason: Failed to maintain a valid bond.

License Number: 020873N.

Name: New Victory International Logistics, Inc.

Address: 6560 Bandini Blvd., Commerce, CA 90040.

Date Revoked: July 27, 2011.

Reason: Failed to maintain a valid bond.

License Number: 021405F.

Name: JBL Services, Inc.

Address: 625 Gatewood, Garland, TX 75043.

Date Revoked: July 6, 2011.

Reason: Failed to maintain a valid bond.

License Number: 021608F.

Name: United Trading & Shipping Company.

Address: 2724 Dorr Avenue, Suite 100, Fairfax, VA 22031.

Date Revoked: June 6, 2011.

Reason: Voluntarily surrendered license.

License Number: 021616N.

Name: Scrap-N-Ship Logistics Corp.

Address: 810 SW. 173rd Avenue, Pembroke Pines, FL 33029.

Date Revoked: July 14, 2011.

Reason: Failed to maintain a valid bond.

License Number: 021705NF.

Name: Horizon Logistics, LLC dba HRZ Logistics, LLC dba HRZ Logistics.

Address: 600 E. Las Colinas Boulevard, Suite 550, Irving, TX 75039.

Date Revoked: June 20, 2011.

Reason: Voluntarily surrendered license.

License Number: 022554F.

Name: Saheed Olalekan Bello dba Sahbell International Services.

Address: 11950 FM 1960 West, Suite 1123, Houston, TX 77065.

Date Revoked: July 13, 2011.

Reason: Failed to maintain a valid bond.

License Number: 022653N.

Name: Flash Forward Logistics Inc.

Address: 17 Sunset Avenue, Lynbrook, NY 11563

Date Revoked: June 6, 2011.

Reason: Voluntarily surrendered license.

License Number: 023013N.

Name: Skybox Cargo Consolidators, LLC.

Address: 2328 E. Van Buren Street, Suite 129, Phoenix, AZ 85006.

Date Revoked: July 14, 2011.

Reason: Failed to maintain a valid bond.

Sandra L. Kusumoto,
Director, Bureau of Certification and Licensing.

[FR Doc. 2011-20494 Filed 8-11-11; 8:45 am]

BILLING CODE 6730-01-P